DEPARTMENT OF TRANSPORTATION

Federal Aviation Administration

14 CFR Part 39

[Docket No. FAA-2012-0218; Directorate Identifier 2012-CE-003-AD]

RIN 2120-AA64

Airworthiness Directives; Hawker Beechcraft Corporation Airplanes

AGENCY: Federal Aviation Administration (FAA), DOT.

ACTION: Notice of proposed rulemaking (NPRM).

SUMMARY: We propose to adopt a new airworthiness directive (AD) for certain Hawker Beechcraft Corporation Models 58 and G58 airplanes. This proposed AD was prompted by installation of oversized clamps on fuel vapor return and/or fuel vent lines in the outboard sections of the left and right wings. This proposed AD would require inspecting for oversized or deformed fuel hose clamps and replacing as necessary. We are proposing this AD to correct the unsafe condition on these products.

DATES: We must receive comments on this proposed AD by April 16, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Hawker Beechcraft Corporation, B091-A04, 10511 E. Central Ave., Wichita, Kansas 67206; telephone: 1 (800) 429-5372 or (316) 676-3140; fax: (316) 676-8027; email: tmdc@hawkerbeechcraft.com; or Internet: http://www.hawkerbeechcraft.com/customer_support/technical_and_field_support/. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Thomas Teplik, Aerospace Engineer, Wichita Aircraft Certification Office, FAA, 1801 Airport Road, Room 100, Wichita, Kansas 67209; phone: (316) 946-4196; fax: (316) 329-4090; email: thomas.teplik@faa.gov.

SUPPLEMENTARY INFORMATION:

Comments Invited

We invite you to send any written relevant data, views, or arguments about this proposal. Send your comments to an address listed under the ADDRESSES section. Include “Docket No. FAA-12-0218; Directorate Identifier 2012-CE-003-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received reports of installation of oversized clamps on fuel vapor return and/or fuel vent lines in the outboard sections of the left and right wings on Hawker Beechcraft Corporation Models 58 and G58 airplanes. This condition, if not corrected, could result in leakage of fuel or vapor in areas where electrical wiring and other potential ignition sources are present, which could lead to an inflight fire.

Relevant Service Information

We reviewed Hawker Beechcraft Mandatory Service Bulletin No. SB 28-4039, Revision 1, dated October 2011. The service bulletin describes procedures for inspecting for oversized or deformed fuel hose clamps and replacing as necessary.

FAA's Determination

We are proposing this AD because we evaluated all the relevant information and determined the unsafe condition described previously is likely to exist or develop in other products of the same type design.

Proposed AD Requirements

This proposed AD would require accomplishing the actions specified in the service information described previously.

Costs of Compliance

We estimate that this proposed AD affects 244 airplanes of U.S. registry.

We estimate the following costs to comply with this proposed AD:

Estimated Costs
Action | Labor cost | Parts cost | Cost per product | Cost on U.S. operators
Defueling, inspection of the fuel hose clamps, and refueling | 3.5 work-hours × $85 per hour = $297.50 | Not applicable | $297.50 | $72,590

We estimate the following costs to do any necessary replacements that would be required based on the results of the proposed inspection. We have no way of determining the number of aircraft that might need these replacements:

On-Condition Costs
Action | Labor cost | Parts cost | Cost per product
Replacement of fuel hose clamps (Cost represents replacement of a maximum of 20 clamps depending on airplane configuration) | 3 work-hours × $85 per hour = $255 | $20 | $275

Note: According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Hawker Beechcraft Corporation: Docket No. FAA-2012-0218; Directorate Identifier 2012-CE-003-AD.

(a) Comments Due Date

We must receive comments by April 16, 2012.

(b) Affected ADs

None.

(c) Applicability

(1) This AD applies to the following Hawker Beechcraft Corporation airplanes that are certificated in any category:

(i) Model 58, serial numbers TH-1931 through TH-2124, and

(ii) Model G58, serial numbers TH-2125 through TH-2281, TH-2283, and TH-2284.

(d) Subject

Joint Aircraft System Component (JASC)/Air Transport Association (ATA) of America Code 28; fuel.

(e) Unsafe Condition

This AD was prompted by installation of oversized clamps on fuel vapor return and/or fuel vent lines in the outboard sections of the left and right wings. We are issuing this AD to correct the unsafe condition on these products.

(f) Compliance

Comply with this AD within the compliance times specified, unless already done.

(g) Inspection

Within the next 50 hours time-in-service after the effective date of this AD or within the next 6 calendar months after the effective date of this AD, whichever occurs first, inspect the fuel hose clamps for oversized or deformed clamps following Hawker Beechcraft Mandatory Service Bulletin No. SB 28-4039, Revision 1, dated October 2011.

Note: If you have a scheduled inspection before the compliance time of this AD, the FAA recommends you comply with this AD at that time.

(h) Replacement

If any oversized or deformed clamps are found during the inspection required in paragraph (g) of this AD, before further flight, replace the clamps following Hawker Beechcraft Mandatory Service Bulletin No. SB 28-4039, Revision 1, dated October 2011.

(i) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(j) Related Information

(1) For more information about this AD, contact Thomas Teplik, Aerospace Engineer, Wichita ACO, FAA, 1801 Airport Road, Room 100, Wichita, Kansas 67209; phone: (316) 946-4196; fax: (316) 329-4090; email: thomas.teplik@faa.gov.

(2) For service information identified in this AD, contact Hawker Beechcraft Corporation, B091-A04, 10511 E. Central Ave. Wichita, Kansas 67206; telephone: 1 (800) 429-5372 or (316) 676-3140; fax: (316) 676-8027; email: tmdc@hawkerbeechcraft.com; or Internet: http://www.hawkerbeechcraft.com/customer_support/technical_and_field_support/. You may review copies of the referenced service information at the FAA, Small Airplane Directorate, 901 Locust, Kansas City, Missouri 64106. For information on the availability of this material at the FAA, call (816) 329-4148.

Issued in Kansas City, Missouri, on February 24, 2012.
John Colomy,
Acting Manager, Small Airplane Directorate, Aircraft Certification Service.

[FR Doc. 2012-5086 Filed 3-1-12; 8:45 am]

BILLING CODE 4910-13-P